Title 3—

The President

Memorandum of May 3, 2010

Task Force on Space Industry Workforce and Economic Development

Memorandum for the Secretary of Defense[,] the Secretary of Commerce[,] the Secretary of Labor[,] the Secretary of Housing and Urban Development[,] the Secretary of Transportation[,] the Secretary of Education[,] the Director of the Office of Management and Budget[,] the Administrator of the Small Business Administration[,] the Administrator of the National Aeronautics and Space Administration[,] the Chair of the Council of Economic Advisers[,] the Director of National Intelligence[,] the Director of the Office of Science and Technology Policy[, and] the Director of the National Economic Council

My Administration is committed to implementing a bold, new approach to human spaceflight. Supported by a $6 billion increase to the National Aeronautics and Space Administration's (NASA) budget over the next 5 years, this strategy will foster the development of path-breaking technologies, increase the reach and reduce the cost of human and robotic exploration of space, and help create thousands of new jobs.

NASA's budget also includes $429 million next year, and $1.9 billion over the next 5 years, to modernize the Kennedy Space Center and other nearby space launch facilities in Florida. This modernization effort will help spur new commercial business and innovation and provide additional good jobs to the region. While all of the new aspects of my Administration's plan together will create thousands of new jobs in Florida, past decisions to end the Space Shuttle program will still affect families and communities along Florida's “Space Coast.”

Building on this significant new investment at the Kennedy Space Center and my increased budget for NASA overall, I am committed to taking additional steps to help local economies like Florida's Space Coast adapt and thrive in the years ahead. The men and women who work in Florida's aerospace industry are some of the most talented and highly trained in the Nation. It is critical that their skills are tapped as we transform and expand the country's space exploration efforts. That is why I am launching a $40 million, multi-agency initiative to help the Space Coast transform their economies and prepare their workers for the opportunities of tomorrow. This effort will build on and complement ongoing local and Federal economic and workforce-development efforts through a Task Force composed of senior-level Administration officials from relevant agencies that will construct an economic development action plan by August 15, 2010.

To these ends, I hereby direct the following:

Section 1. Establishment of the Task Force on Space Industry Workforce and Economic Development. There is established a Task Force on Space Industry Workforce and Economic Development (Task Force) to develop, in collaboration with local stakeholders, an interagency action plan to facilitate economic development strategies and plans along the Space Coast and to provide training and other opportunities for affected aerospace workers so they are equipped to contribute to new developments in America's space program and related industries. The Secretary of Commerce and the Administrator of NASA shall serve as Co-Chairs of the Task Force.

(a) Membership of the Task Force. In addition to the Co-Chairs, the Task Force shall consist of the following members:

(i) the Secretary of Defense;

(ii) the Secretary of Labor;

(iii) the Secretary of Housing and Urban Development;

(iv) the Secretary of Transportation;

(v) the Secretary of Education;

(vi) the Chair of the Council of Economic Advisers;

(vii) the Director of the Office of Management and Budget;

(viii) the Administrator of the Small Business Administration;

(ix) the Director of National Intelligence;

(x) the Director of the Office of Science and Technology Policy;

(xi) the Director of the National Economic Council; and

(xii) the heads of such other executive departments, agencies, and offices as the President may, from time to time, designate.

A member of the Task Force may designate, to perform the Task Force functions of the member, a senior-level official who is a part of the member's department, agency, or office, and who is a full-time officer or employee of the Federal Government.

(b) Administration. The Co-Chairs shall convene regular meetings of the Task Force, determine its agenda, and direct its work. At the direction of the Co-Chairs, the Task Force may establish subgroups consisting exclusively of Task Force members or their designees, as appropriate.

Sec. 2. Mission and Functions. The Task Force shall work with local stakeholders and executive departments and agencies to equip Space Coast and other affected workers to take advantage of new opportunities and expand the region's economic base.

The Task Force will perform the following functions, to the extent permitted by law:

(a) provide leadership and coordination of Federal Government resources to facilitate workforce and economic development opportunities for aerospace communities and workers affected by new developments in America's space exploration program. Such support may include the use of personnel, technical expertise, and available financial resources, and may be used to provide a coordinated Federal response to the needs of individual States, regions, municipalities, and communities adversely affected by space industry changes;

(b) provide recommendations to the President on ways Federal policies and programs can address issues of special importance to aerospace communities and workers; and

(c) help ensure that officials from throughout the executive branch, including officials on existing committees or task forces addressing technological development, research, or aerospace issues, advance the President's agenda for the transformation of America's space exploration program and support the coordination of Federal economic adjustment assistance activities.

Sec. 3. Outreach. Consistent with the objectives set forth in this memorandum, the Task Force, in accordance with applicable law, in addition to holding regular meetings, shall conduct outreach to representatives of nonprofit organizations; business; labor: State, local, and tribal governments; elected officials; and other interested persons that will assist in bringing to the President's attention concerns, ideas, and policy options for expanding and improving efforts to create jobs and economic growth in affected aerospace communities. The Task Force shall hold inaugural meetings with stakeholders within 60 days of the date of this memorandum.

Sec. 4. Task Force Plan for Space Industry Workforce and Economic Development. On or before August 15, 2010, the Task Force shall develop and submit to the President a comprehensive plan that:

(a) recommends how best to invest $40 million in transition assistance funding to ensure robust workforce and economic development in those communities within Florida affected by transitions in America's space exploration program;

(b) describes how the plan will build on and complement ongoing economic and workforce development efforts;

(c) explores future workforce and economic development activities that could be undertaken for affected aerospace communities in other States, as appropriate;

(d) identifies areas of collaboration with other public or nongovernmental actors to achieve the objectives of the Task Force; and

(e) details a coordinated implementation strategy by executive departments and agencies to meet the objectives of the Task Force.

Sec. 5. Termination. The Task Force shall terminate 3 years after the date of this memorandum unless extended by the President.

Sec. 6. General Provisions. (a) The heads of executive departments and agencies shall assist and provide information to the Task Force, consistent with applicable law, as may be necessary to carry out the functions of the Task Force. Each executive department and agency shall bear its own expense for participating in the Task Force; and

(b) nothing in this memorandum shall be construed to impair or otherwise affect:

(i) authority granted by law to an executive department, agency, or the head thereof; or

(ii) functions of the Director of the Office of Management and Budget relating to budgetary, administrative, or legislative proposals.

(c) This memorandum shall be implemented consistent with applicable law and subject to the availability of appropriations.

(d) This memorandum is not intended to, and does not, create any right or benefit, substantive or procedural, enforceable at law or in equity by any party against the United States, its departments, agencies, or entities, its officers, employees, or agents, or any other person.

(e) The Administrator of the National Aeronautics and Space Administration shall publish this memorandum in the Federal Register.

THE WHITE HOUSE,

WASHINGTON, May 3, 2010

[FR Doc. 2010-10913

Filed 5-5-10; 8:45 am]

Billing code 7510-13-P